DEPARTMENT OF THE TREASURY

Financial Crimes Enforcement Network

31 CFR Part 1010

Financial Crimes Enforcement Network; Inflation Adjustment of Civil Monetary Penalties

Correction

In rule document 2023-00943, appearing on pages 3311 through 3313 in the issue of Thursday, January 19, 2023:

On page 3312, the far right heading in the table named “TABLE 1 OF § 1010.821—PENALTY ADJUSTMENT TABLE”, is corrected to read the following:

§ 1010.821 Penalty adjustment and table [Corrected]

Maximum penalty amounts or range of minimum and maximum penalty amounts for penalties assessed on or after 1/19/2023

[FR Doc. C1-2023-00943 Filed 2-2-23; 8:45 am]

BILLING CODE 0099-10-P